CONSUMER PRODUCT SAFETY COMMISSION

Sunshine Act Meeting

AGENCY: Consumer Safety Commission.

TIME AND DATE: Tuesday, October 16, 2001, 10 a.m.

LOCATION: Room 420, East West Towers, 4330 East West Highway, Bethesda, Maryland.

STATUS: Open to the public.

MATTER TO BE CONSIDERED: Purchaser Identification Card Program (ANPR). The staff will brief the Commission on an advance notice of proposed rulemaking (ANPR) concerning a program that would require purchaser identification cards with certain consumer products.

For a recorded message containing the latest agenda information, call (301) 504-0709.

CONTACT PERSON FOR ADDITIONAL INFORMATION: Todd A. Stevenson, Office of the Secretary, 4330 East West Highway, Bethesda, MD 20207, (301) 504-0800.

Dated: October 10, 2001.
Todd A. Stewenson,
Acting Secretary.

[FR Doc. 01-25939 Filed 10-10-01; 5:03 pm]

BILLING CODE 6355-01-M